DEPARTMENT OF THE INTERIOR

Fish and Wildlife Service

Notice of Availability of Final Environmental Impact Statement and Final Roosevelt Habitat Conservation Plan for Incidental Take by the Salt River Project

AGENCY: U.S. Fish and Wildlife Service, Department of the Interior.

ACTION: Notice of availability.

SUMMARY: The Salt River Project (SRP) has submitted an application for an incidental take permit (ITP) for the following federally listed and candidate species: southwestern willow flycatcher (Empidonax traillii extimus, flycatcher), Yuma clapper rail (Rallus longirostris yumanensis, clapper rail), bald eagle (Haliaeetus leucocephalus), and the yellow-billed cuckoo (Coccyzus americanus, cuckoo). The proposed take would occur in Gila and Maricopa counties, Arizona, as a result of management actions allowing Roosevelt Lake to fill, causing inundation of occupied habitat. The U.S. Fish and Wildlife Service (Service) has issued a final Environmental Impact Statement (EIS) that evaluates the impacts of and alternatives for the possible issuance of an incidental take permit (ITP). SRP completed the final Roosevelt Habitat Conservation Plan (RHCP) as part of the application package submitted to the Service as required by the Endangered Species Act of 1973, as amended (Act) for consideration of issuance of an ITP. The RHCP provides measures to minimize and mitigate the effects of the proposed taking of listed and candidate species and the habitats upon which they depend.

The final EIS includes (in attached volume 3) all comments received on the draft EIS, and responses to those comments. No decision will be made on the proposed action until at least 30 days after publication of this notice of availability of the final EIS in the Federal Register. After the 30-day waiting period, the U.S. Fish and Wildlife Service will complete a Record of Decision (ROD) that states whether the action will be implemented and discusses all factors leading to the decision.

ADDRESSES: Persons wishing to review the final EIS and RHCP may obtain a copy by writing to the Field Supervisor, U.S. Fish and Wildlife Service, 2321 West Royal Palm Road, Suite 103, Phoenix, AZ 85021.

FOR FURTHER INFORMATION CONTACT: On the EIS, Contact: Ms. Sherry Barrett, Assistant Field Supervisor, Tucson Suboffice, U.S. Fish and Wildlife Service, 110 S. Church, Suite 3450, Tucson, AZ 85701 at 520/670-4617, or Mr. Jim Rorabaugh, Arizona State Office, U.S. Fish and Wildlife Service, 2321 West Royal Palm Road, Suite 103, Phoenix, AZ 85021 at 602/242-0210. For further information on the RHCP, Contact: Mr. John Keane, Executive Environmental Policy Analyst, Salt River Project, P.O. Box 52025, PAB355, Phoenix, AZ 85072-2025 at 602/236-5087, or Mr. Craig Sommers, President, ERO Resources Corporation, 1842 Clarkson Street, Denver, CO 80218 at 303/830-1188.

Read-only downloadable copies of the final EIS and Application documents are available on the Internet at http://arizonaes.fws.gov. A printed or CD copy of the documents is available upon request to Virginia Kasper, Salt River Project, P.O. Box 52025, Phoenix, AZ 85072-2025; (602) 236-3416; vckasper@srpnet.com. Copies of the final EIS and final RHCP are also available for public inspection and review at the locations listed below under SUPPLEMENTARY INFORMATION.

SUPPLEMENTARY INFORMATION: Pursuant to the National Environmental Policy Act (NEPA), this notice advises the public that the Service has gathered the information necessary to (1) determine impacts and formulate alternatives for the EIS, related to the potential issuance of an ITP to SRP; and (2) develop and implement the RHCP, which provides measures to minimize and mitigate the effects of the incidental take of federally listed species to the maximum extent practicable, pursuant to section 10(a)(1)(B) of the Act.

Section 9 of the Act prohibits the “taking” of threatened and endangered species. However, the Service, under limited circumstances, may issue permits to take threatened or endangered wildlife species incidental to, and not the purpose of, otherwise lawful activities. Regulations governing permits for endangered species are at 50 CFR parts 13 and 17.

Copies of the final EIS and RHCP are available for public inspection and review at the following locations (by appointment at government offices):

• Department of the Interior, Natural Resources Library, 1849 C St. NW., Washington, DC 20240.

• U.S. Fish and Wildlife Service, 110 S. Church, Suite 3450, Tucson, AZ 85701

• U.S. Fish and Wildlife Service, 2321 West Royal Palm Road, Suite 103, Phoenix, AZ 85021

• Salt River Project, 1521 Project Drive, Tempe, AZ 85281

• Globe Public Library, 339 S. Broad St., Globe, AZ 85501

• Government Document Service, Arizona State University, Tempe, AZ 85287

• Payson Public Library, 510 W. Main, Payson, AZ 85541

• Phoenix Public Library (Burton Barr Central), 1221 N. Central Ave., Phoenix, AZ 85004

• Tonto Basin Library, 1 School St., Tonto Basin (Punkin Center), AZ 85553

Background

Roosevelt Dam and Reservoir (Roosevelt) is operated by SRP in conjunction with three other reservoirs on the Salt River and two reservoirs on the Verde River as integral features of the Salt River Reclamation Project, authorized by the Reclamation Act of 1902, and pursuant to a 1917 contract with the United States. Since completion in 1911, Roosevelt has provided water for power generation, irrigation, municipal, and other uses. Currently, SRP reservoirs supply water to more than 1.6 million people in the cities of Phoenix, Mesa, Chandler, Tempe, Glendale, Gilbert, Scottsdale, Tolleson, and Avondale. In addition, water is provided to irrigate agricultural lands within SRP and for other uses. Also, water is delivered to the Salt River Pima-Maricopa Indian Community, Fort McDowell Yavapai Nation, Gila River Indian Community, Buckeye Irrigation Company, Roosevelt Irrigation District, Roosevelt Water Conservation District, and others. Roosevelt and the other SRP reservoirs also provide a variety of recreational uses and environmental benefits in central Arizona. Due to dry conditions in central Arizona for the past six years, the water level at Roosevelt has been below normal. As a result, riparian vegetation has invaded and flourished in the portion of Roosevelt historically used by SRP to store water for use in the Phoenix metropolitan area. Animals that use riparian habitat have followed the vegetation growth and now occupy areas within the reservoir. In particular, a population of flycatchers now occupies habitat within the storage space at Roosevelt. Thus, periodic refilling of the reservoir may adversely affect habitat used by the flycatcher, clapper rail, bald eagle, and cuckoo.

Proposed Action

The proposed action is the issuance of an ITP for flycatchers, clapper rails, bald eagles, and cuckoos for SRP's operation of Roosevelt, pursuant to section 10(a)(1)(B) of the Act. The activity that would be covered by the permit is the continued operation of Roosevelt by SRP. The area covered by the permit includes Roosevelt up to an elevation of 2,151 feet, the highest point in the reservoir at which water is stored. The requested term of the permit is for a period of 50 years. To meet the requirements of a Section 10(a)(1)(B) permit, SRP has developed and will implement the RHCP, which provides measures to minimize and mitigate incidental take of flycatchers, clapper rails, and bald eagles to the maximum extent practicable, and which ensures that the incidental take will not appreciably reduce the likelihood of the survival and recovery of these species in the wild. The RHCP also addresses potential impacts on a candidate species, the yellow-billed cuckoo.

Alternatives

Two other alternatives that were considered by the Service include the following:

1. No Permit—No issuance of an ITP by the Service. This alternative would require SRP to do everything within its control to avoid any take of federally listed species associated with its continued operation of Roosevelt.

2. Re-operation Alternative—Issuance of an ITP by the Service authorizing the modified operation of Roosevelt to reduce the short-term impact of reservoir operations on listed and candidate species. This alternative includes measures to minimize and mitigate the potential take of federally listed species.

Geoffrey L. Haskett,
Acting Regional Director, Southwest Region.

[FR Doc. 02-30386 Filed 11-27-02; 8:45 am]

BILLING CODE 4510-55-P